DEPARTMENT OF TRANSPORTATION

Pipeline and Hazardous Materials Safety Administration

[Docket: PHMSA-1998-4957]

Request for Public Comments and Office of Management and Budget Approval of an Existing Information Collection (2137-0618); Correction

AGENCY: Pipeline and Hazardous Materials Safety Administration (PHMSA), U.S. Department of Transportation (DOT).

ACTION: Notice; correction.

SUMMARY: PHMSA published a notice in the Federal Register on September 11, 2007, requesting comments on an information collection for underwater periodic inspections. The notice contains an incorrect annual cost estimate.

FOR FURTHER INFORMATION CONTACT: Roger Little at (202) 366-4569, or by e-mail at roger.little@dot.gov.

In the Federal Register of September 11, 2007, 72 FR 51901, on page 51902, in the first column, correct “Estimated Cost: $6,475.” to read “Estimated Cost: $87,413.”

Issued in Washington, DC on September 25, 2007.
Florence L. Hamn,
Director of Regulations, Office of Pipeline Safety.

[FR Doc. E7-19293 Filed 9-28-07; 8:45 am]

BILLING CODE 4910-60-P